DEPARTMENT OF TRANSPORTATION

Federal Highway Administration

Environmental Impact Statement Prince George's, County, MD

AGENCY: Federal Highway Administration (FHWA), DOT.

ACTION: Notice of intent.

SUMMARY: The FHWA is issuing this notice to advise the public that an environmental impact statement will be prepared for a proposed multi-modal project in Prince George's County, Maryland.

FOR FURTHER INFORMATION CONTACT: Ms. Pamela Stephenson, Environmental Protection Specialist, Federal Highway Administration, The Rotunda-Suite 220, 711 West 40th Street, Baltimore Maryland 21211. Telephone: (410) 962-4342.

SUPPLEMENTARY INFORMATION: The FHWA, in cooperation with the Maryland State Highway Administration, will prepare an Environmental Impact Statement (EIS) on a proposal to improve MD 210 in Prince George's County, Maryland. This project will consider a balanced and full range of Multi-Modal solutions, including intersection improvements, High Occupancy Vehicle (HOV) lanes, transit enhancement, and interchanges. The limits of the project are from MD 228 (Berry Road) to the Capital Beltway (I-95/I-495) a distance of approximately 10.2 miles.

MD 210 provides an essential connection between the Washington, D.C. metropolitan area, and residential communities in southern Prince George's and northern Charles Counties, accommodating both local and long distance trips within the corridor. The MD 210 corridor within the study limits currently experience severe traffic congestion during morning and evening peak periods. Many commuters currently divert to county and local roadways to avoid traffic congestion alone mainline MD 210. The local roadway network in this area is not designed to handle the high volumes of through traffic being diverted from MD 210. The resulting congestion on the local roadway network compromises safety and contributes to the overall congestion in the MD 210 corridor.

The expected growth in local traffic from planned development in southern Prince George's and Charles Counties will further aggravate existing conditions and will result in travel demand for exceeding the capacity of the existing transportation system, increasing congestion, travel times and accidents rates within the study area. This project will evaluate improvements to MD 210, which will address safety problems and accommodate existing and projected travel demand, provide the desired capacity and decrease travel delays and congestion.

The alternatives under consideration include (1) no-build, (2) intersection improvements, (3) widening to provide a fourth general—use lane, (4) widening to provide a two-lane reversible HOV facility in the median, and (5) construction of interchanges at six locations from Kirby Hill Road to Old Fort Road South. It has been determined that no single strategy could adequately address the need for this project. Therefore, a combination of the alternatives discussed above, along with multi-modal enhancements, such as Park & Ride facilities and improvements in the existing transit service, will be considered.

Letters describing the proposed action and soliciting comments will be sent to appropriate Federal, State, and local agencies, private organizations, and to citizens who have previously expressed or are known to have an interest in this project. A Public Hearing is tentatively scheduled for Fall, 2000. Public notice will be given of the time and place of this hearing.

The Draft EIS will be available for public and agency review and comment prior to the Public Hearing. Public notice will be given of the availability of the Draft EIS for review. A Formal scoping meeting was held for this project on August 15, 1997.

To ensure that the full range of issues related to this proposed action are addressed and all significant issues identified, a focus group comprised of local residents, business owners, elected officials, county representatives and SHA team members was formed in early 1997. The group has met regularly with a total of fourteen meetings to date. The group's primary mission is to assist in the development of possible solution for the traffic congestion and safety concerns along the MD 210 corridor. As part of the ongoing alternatives development process, SHA is also maintaining extensive coordination with Prince George's County, Metropolitan Washington Council of Governments (MWCOG), Washington Metropolitan Area Transit Authority (WMATA) and Maryland Mass Transit Administration regarding the development of this project.

Comments or questions concerning this proposed action and EIS should be directed to the FHWA at the address provided above.

(Catalog of Federal Domestic Assistance Program Number 20.205, Highway Research, Planning and Construction. The regulation implementing Executive Order 12372 regarding intergovernmental consultation of Federal programs and activities apply to this program)
Pamela Stephenson,
Environmental Protection Specialist, Baltimore, Maryland.

[FR Doc. 00-10615 Filed 4-27-00; 8:45 am]

BILLING CODE 4910-22-M